DEPARTMENT OF COMMERCE

International Trade Administration

[A-570-188]

Float Glass Products From the People's Republic of China: Preliminary Affirmative Determination of Sales at Less Than Fair Value, Postponement of Final Determination, and Extension of Provisional Measures

AGENCY: Enforcement and Compliance, International Trade Administration, Department of Commerce.

SUMMARY: The U.S. Department of Commerce (Commerce) preliminarily determines that float glass products from the People's Republic of China (China) are being, or are likely to be, sold in the United States at less than fair value (LTFV). The period of investigation (POI) is April 1, 2024, through September 30, 2024. Interested parties are invited to comment on this preliminary determination.

DATES: Applicable July 15, 2025.

FOR FURTHER INFORMATION CONTACT: Dmitry Vladimirov, AD/CVD Operations, Office I, Enforcement and Compliance, International Trade Administration, U.S. Department of Commerce, 1401 Constitution Avenue NW, Washington, DC 20230; telephone: (202) 482-0665.

SUPPLEMENTARY INFORMATION:

Background

This preliminary determination is made in accordance with section 733(b) of the Tariff Act of 1930, as amended (the Act). Commerce published the notice of initiation of this LTFV investigation on January 8, 2025.¹ On April 17, 2025, Commerce postponed the preliminary determination of this investigation.² The deadline for the preliminary determination is now July 9, 2025.

¹ See Float Glass Products from the People's Republic of China and Malaysia: Initiation of Less-Than-Fair-Value Investigations, 90 FR 1435 (January 8, 2025) (Initiation Notice).

² See Float Glass Products from the People's Republic of China and Malaysia: Postponement of Preliminary Determinations in the Less-Than-Fair-Value Investigations, 90 FR 16107 (April 17, 2025).

For a complete description of the events that followed the initiation of this investigation, see the Preliminary Decision Memorandum.³ A list of topics included in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

³ See Memorandum, “Decision Memorandum for the Preliminary Affirmative Determination of Sales at Less Than Fair Value in the Investigation of Float Glass Products from the People's Republic of China,” dated concurrently with, and hereby adopted by, this notice (Preliminary Decision Memorandum).

Scope of the Investigation

The products covered by this investigation are float glass products from China. For a complete description of the scope of this investigation, see Appendix I.

Scope Comments

In accordance with the Preamble to Commerce's regulations,⁴ the Initiation Notice set aside a period of time for parties to raise issues regarding product coverage (i.e., scope).⁵ Certain interested parties commented on the scope of the investigation as it appeared in the Initiation Notice. For a summary of the product coverage comments and rebuttal responses submitted for consideration in this preliminary determination, and accompanying discussion and analysis of all comments timely received, see the Preliminary Scope Decision Memorandum.⁶ As discussed in the Preliminary Scope Decision Memorandum, Commerce preliminarily modified, in certain respects, the scope language that appeared in the Initiation Notice. The scope in Appendix I reflects the modifications.

⁴ See Antidumping Duties; Countervailing Duties, Final Rule, 62 FR 27296, 27323 (May 19, 1997) (Preamble).

⁵ See Initiation Notice, 90 FR at 1436.

⁶ See Memorandum, “Float Glass Products from the People's Republic of China and Malaysia: Scope Comments Decision Memorandum for the Preliminary Determinations,” dated concurrently with this notice (Preliminary Scope Decision Memorandum).

In the Preliminary Scope Decision Memorandum, Commerce established the deadline for parties to submit scope case and rebuttal briefs.⁷ Commerce intends to issue a final scope decision with the final determinations of the LTFV and countervailing duty (CVD) investigations of float glass products from China and Malaysia.

⁷ Case briefs, other written comments, and rebuttal briefs submitted by parties in response to this preliminary LTFV determination should not include scope-related issues. See Preliminary Scope Decision Memorandum, and “Public Comment” section of this notice.

Methodology

Commerce is conducting this investigation in accordance with section 731 of the Act. Pursuant to sections 776(a) and (b) of the Act, Commerce preliminarily relied upon facts otherwise available, with adverse inferences, for the China-wide entity, including the companies selected for individual examination: Panda Frame and Mirror Arts Co., Ltd. and Shandong Jinjing Science and Technology Stock Co., Ltd. (Shandong Jinjing). For a full description of the methodology underlying Commerce's preliminary determination, see the Preliminary Decision Memorandum.

Combination Rates

In the Initiation Notice,⁸ Commerce stated that it would calculate producer/exporter combination rates for the respondents that are eligible for a separate rate in this investigation. Policy Bulletin 05.1 describes this practice.⁹ In this investigation, we assigned a producer/exporter combination rate for the companies that are listed in the “Preliminary Determination” and eligible for separate rates.

⁸ See Initiation Notice, 90 FR at 1440.

⁹ See Enforcement and Compliance's Policy Bulletin No. 05.1, regarding, “Separate-Rates Practice and Application of Combination Rates in Antidumping Investigations involving Non-Market Economy Countries,” (April 5, 2005) (Policy Bulletin 05.1), available on Commerce's website at enforcement.trade.gov/policy/bull05-1.pdf.

Separate Rates

We preliminarily granted a separate rate to certain separate rate respondents that we did not select for individual examination.¹⁰ In calculating the rate for non-individually examined separate rate respondents in a non-market economy LTFV investigation, Commerce normally looks to section 735(c)(5)(A) of the Act, which pertains to the calculation of the all-others rate in a market economy LTFV investigation, for guidance. Pursuant to section 735(c)(5)(A) of the Act, normally this rate shall be an amount equal to the weighted-average of the estimated weighted-average dumping margins established for those companies individually examined, excluding zero and de minimis dumping margins, and any dumping margins based entirely upon section 776 of the Act.

¹⁰ See Preliminary Decision Memorandum for additional details.

In cases where the estimated weighted-average dumping margins for all individually investigated respondents are zero, de minimis, or based entirely on adverse facts available (AFA), Commerce may use any reasonable method to assign a rate to the separate rate companies.¹¹ In this investigation, because we preliminarily find that the mandatory respondents are ineligible for an individually-calculated separate rate and are part of the China-wide entity subject to a rate based entirely on AFA, we preliminarily applied the simple average of the rates alleged in the petition, i.e., 246.68 percent,¹² to non-selected respondents eligible for a separate rate.

¹¹ See, e.g., section 735(c)(5)(B) of the Act.

¹² See Initiation Notice, 90 FR at 1439.

Preliminary Determination

Commerce preliminarily determines that the following estimated weighted-average dumping margins exist:

Exporter | Producer | Weighted-average dumping margin (percent) | Cash deposit rate (adjusted for subsidy offsets) (percent)
Benxi Fuyao Float Glass Co., Ltd | Benxi Fuyao Float Glass Co., Ltd | 246.68 | 246.66
Changshu Chenming High-Tech International Trading Co., Ltd | Changshu High-Tech Energy-Saving Dorwin Co., Ltd | 246.68 | 246.66
Dong Guan City Bathnology Industrial Co., Ltd | Dong Guan City Bathnology Industrial Co., Ltd | 246.68 | 246.66
Dongguan Gongying Supply Chain Management Co., Ltd | Lamxon Technology Building Materials Co., Ltd | 246.68 | 246.66
Guangdong Guang Yi Import and Export Co., Ltd | Lamxon Technology Building Materials Co., Ltd | 246.68 | 246.66
Guangdong Rosery Bath Science and Technology Co., Ltd | Guangdong Rosery Bath Science and Technology Co., Ltd | 246.68 | 246.66
Orient Resource Corporation Limited | Orient Resource Corporation Limited | 246.68 | 246.66
Qingdao Apis Glass Industries Co., Ltd | Qingdao Apis Glass Industries Co., Ltd | 246.68 | 246.66
Qingdao Oriental Brother New Energy Technology Co., Ltd | Qingdao Oriental Brother New Energy Technology Co., Ltd | 246.68 | 246.66
Qinhuangdao Xinhua Glass Processing Co., Ltd | Qinhuangdao Xinhua Glass Processing Co., Ltd | 246.68 | 246.66
Shandong Jinjing Science and Technology Stock Co., Ltd. Boshan Branch | Shandong Jinjing Science and Technology Stock Co., Ltd. Boshan Branch | 246.68 | 246.66
Tengzhou Eternal Glass Co., Ltd | Tengzhou Fenghua Glass Co., Ltd | 246.68 | 246.66
Tengzhou Haolong Glass Co., Ltd | Tengzhou Haolong Glass Co., Ltd | 246.68 | 246.66
Tengzhou Jingcheng Mirror Co., Ltd | Tengzhou Jingcheng Mirror Co., Ltd | 246.68 | 246.66
Tengzhou Jinjing Glass Co., Ltd | Tengzhou Jinjing Glass Co., Ltd | 246.68 | 246.66
Tengzhou Jinjing Glass Co., Ltd | Langfang Jinbiao Glass Co., Ltd | 246.68 | 246.66
Tengzhou Yichuang Commercial Trading Co., Ltd | Tengzhou Yichuang Commercial Trading Co., Ltd | 246.68 | 246.66
Xiamen Guorui Hengsheng Advanced Materials Co., Ltd | Xiamen Guorui Hengsheng Advanced Materials Co., Ltd | 246.68 | 246.66
Xiamen Guorui Hengsheng Advanced Materials Co., Ltd | Xiamen Shiner Glass Co., Ltd | 246.68 | 246.66
Xinyi Group (Glass) Co., Ltd | Xinyi Glass (Tianjin) Co., Ltd | 246.68 | 246.66
Xinyi Group (Glass) Co., Ltd | Xinyi Glass (Wuhu) Co., Ltd | 246.68 | 246.66
Zhongshan Neptum Sanitary Ware Co., Ltd | Zhongshan Neptum Sanitary Ware Co., Ltd | 246.68 | 246.66
Zhongshan Ninghe Intelligent Kitchen and Bath Co., Ltd | Zhongshan Ninghe Intelligent Kitchen and Bath Co., Ltd | 246.68 | 246.66
China-Wide Entity |  | 311.81 * | 311.79
* This rate is based on facts available with adverse inferences.

Suspension of Liquidation and Cash Deposit Requirements

In accordance with section 733(d)(2) of the Act, Commerce will direct U.S. Customs and Border Protection (CBP) to suspend liquidation of entries of subject merchandise, as described in Appendix I, entered, or withdrawn from warehouse, for consumption on or after the date of publication of this notice in the Federal Register, as discussed below. Further, pursuant to section 733(d)(1)(B) of the Act and 19 CFR 351.205(d), Commerce will instruct CBP to require a cash deposit equal to the weighted average amount by which normal value exceeds U.S. price, as indicated in the chart above as follows: (1) for the producer/exporter combinations listed in the table above, the cash deposit rate is equal to the estimated weighted-average dumping margin listed for that combination in the table; (2) for all combinations of Chinese producers/exporters of merchandise under consideration that have not established eligibility for their own separate rates, the cash deposit rate will be equal to the estimated weighted-average dumping margin established for the China-wide entity; and (3) for all third-country exporters of merchandise under consideration not listed in the table above, the cash deposit rate is the cash deposit rate applicable to the Chinese producer/exporter combination (or the China-wide entity) that supplied that third-country exporter.

To determine the cash deposit rate, Commerce normally adjusts the estimated weighted-average dumping margin by the amount of domestic subsidy pass-through and export subsidies determined in a companion CVD proceeding when CVD provisional measures are in effect. Accordingly, where Commerce has made a preliminary affirmative determination for domestic subsidy pass-through or export subsidies, Commerce has offset the calculated estimated weighted-average dumping margin by the appropriate rate(s). As discussed in the Preliminary Decision Memorandum, we made no adjustment for domestic subsidy pass-through. Any such adjusted rates may be found in the “Preliminary Determination” section's table of estimated weighted-average dumping margins above.

Should provisional measures in the companion CVD investigation expire prior to the expiration of provisional measures in this LTFV investigation, Commerce will direct CBP to begin collecting antidumping duty cash deposits at a rate equal to the estimated weighted-average dumping margins calculated in this preliminary determination unadjusted for export subsidies at the time the CVD provisional measures expire. These suspension of liquidation instructions and cash deposit requirements will remain in effect until further notice.

Disclosure

Normally, Commerce discloses to interested parties the calculations performed in connection with a preliminary determination within five days of its public announcement or, if there is no public announcement, within five days of the date of publication of this notice in accordance with 19 CFR 351.224(b). However, Commerce preliminarily applied total AFA to the China-wide entity in this investigation, in accordance with section 776 of the Act, and the simple average of the petition rates to the non-selected separate rates. Because these rates are based solely on the petition, there are no calculations to disclose.

Verification

Because the mandatory respondents in this investigation did not provide information requested by Commerce and Commerce preliminarily determines each of the mandatory respondents to have been uncooperative, we will not conduct any verification.

Public Comment

Case briefs or other written comments on non-scope issues may be submitted to the Assistant Secretary for Enforcement and Compliance no later than 30 days after the publication of this notice.¹³ Rebuttal briefs, limited to issues raised in the case briefs, may be filed not later than five days after the date for filing case briefs.¹⁴ Interested parties who submit case briefs or rebuttal briefs in this proceeding must submit: (1) a table of contents listing each issue; and (2) a table of authorities.¹⁵

¹³ See 19 CFR 351.309(c)(1)(ii). Case and rebuttal briefs submitted in response to this preliminary determination should not include scope-related issues. See 19 CFR 351.309(c)(1)(i); see also 19 CFR 351.303 (for general filing requirements).

¹⁴ See 19 CFR 351.309(d); see also Administrative Protective Order, Service, and Other Procedures in Antidumping and Countervailing Duty Proceedings, 88 FR 67069, 67077 (September 29, 2023) (APO and Service Final Rule).

¹⁵ See 19 CFR 351.309(c)(2) and (d)(2).

As provided under 19 CFR 351.309(c)(2) and (d)(2), in prior proceedings we have encouraged interested parties to provide an executive summary of their briefs that should be limited to five pages total, including footnotes. In this investigation, we instead request that interested parties provide at the beginning of their briefs a public, executive summary for each issue raised in their briefs.¹⁶ Further, we request that interested parties limit their public executive summary of each issue to no more than 450 words, not including citations. We intend to use the public executive summaries as the basis of the comment summaries included in the issues and decision memorandum that will accompany the final determination in this investigation. We request that interested parties include footnotes for relevant citations in the public executive summary of each issue. Note that Commerce has amended certain of its requirements pertaining to the service of documents in 19 CFR 351.303(f).¹⁷

¹⁶ We use the term “issue” here to describe an argument that Commerce would normally address in a comment of the Issues and Decision Memorandum.

¹⁷ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice in the Federal Register. Requests should contain: (1) the party's name, address, and telephone number; (2) the number of participants and whether any participant is a foreign national; and (3) a list of the issues to be discussed. If a request for a hearing is made, Commerce intends to hold the hearing at a date, time, and location to be determined. Parties should confirm the date, time, and location of the hearing two days before the scheduled date.

Postponement of Final Determination and Extension of Provisional Measures

Section 735(a)(2) of the Act provides that a final determination may be postponed until not later than 135 days after the date of the publication of the preliminary determination in the Federal Register if, in the event of an affirmative preliminary determination, a request for such postponement is made by exporters who account for a significant proportion of exports of the subject merchandise, or in the event of a negative preliminary determination, a request for such postponement is made by the petitioner. Pursuant to 19 CFR 351.210(e)(2), Commerce requires that requests by respondents for postponement of a final antidumping duty determination be accompanied by a request for extension of provisional measures from a four-month period to a period not more than six months in duration.

On June 4, 2025, Shandong Jinjing requested that Commerce postpone the final determination and that the provisional measures be extended to a period not to exceed six months.¹⁸ In accordance with section 735(a)(2)(A) of the Act and 19 CFR 351.210(b)(2)(ii), because: (1) the preliminary determination is affirmative; (2) the requesting exporter accounts for a significant proportion of exports of the subject merchandise; and (3) no compelling reasons for denial exist, Commerce is postponing the final determination and extending the provisional measures from a four-month period to a period not greater than six months. Accordingly, Commerce will make its final determination no later than 135 days after the date of publication of this preliminary determination in the Federal Register.

¹⁸ See Shandong Jinjing's Letter, “Request to Postpone Final Determination,” dated June 4, 2025.

U.S. International Trade Commission (ITC) Notification

In accordance with section 733(f) of the Act, Commerce will notify the ITC of its preliminary determination of sales at LTFV. If the final determination is affirmative, the ITC will determine before the later of 120 days after the date of this preliminary determination or 45 days after the final determination whether imports of subject merchandise are materially injuring, or threaten material injury to, the U.S. industry.

Notification to Interested Parties

This preliminary determination is issued and published in accordance with sections 733(f) and 777(i)(1) of the Act, and 19 CFR 351.205(c).

Dated: July 9, 2025.
Christopher Abbott,
Deputy Assistant Secretary for Policy and Negotiations, performing the non-exclusive functions and duties of the Assistant Secretary for Enforcement and Compliance.

Appendix I

Scope of the Investigation

The scope of this investigation covers float glass products (FGP), which are articles of soda-lime-silica glass that are manufactured by floating a continuous strip of molten glass over a smooth bath of tin (or another liquid metal with a density greater than molten glass), cooling the glass in an annealing lehr, and cutting it to appropriate dimensions. For purposes of the investigation, float glass products have an actual thickness of at least 2.0 mm (0.0787 inches) and an actual surface area of at least 0.37 square meters (4.0 square feet).

The country of origin of each float glass product is determined by the location where the soda-lime-silica glass is first manufactured by floating a continuous strip of molten glass over a smooth bath of tin and cooling the glass in an annealing lehr, regardless of the location of any downstream finishing or fabrication operations.

Prior to being subjected to further treatment, finishing, or fabrication, float glass products meet the requirements of Type I under ASTM-C1036 of the American Society for Testing and Materials (ASTM).

Float glass products may be clear, stained, tinted, or coated with one or more materials. Examples of coated float glass products include Low-E architectural glass (i.e., glass with a low emissivity coating to limit the penetration of radiant heat energy) and frameless mirrors (i.e., flat glass with a silver, aluminum, or other reflective layer) such as mirror stock sheet.

Float glass products may be annealed, chemically strengthened, heat strengthened, or tempered to achieve a desired surface compression, pursuant to ASTM-C1048, ASTM-C1422/C1422M, or other similar specifications.

Float glass products include tub and shower enclosures (i.e., doors and panels) made of tempered glass, which may be sold with attached or unattached hardware. In such cases, the scope covers only the tempered glass, to the exclusion of any non-glass hardware.

The only float glass product assemblies included within the scope are: (1) articles consisting of two of more sheets of float glass that are bonded together using a polymer interlayer (i.e., laminated glass); (2) insulating glass units (IGUs), which consist of two or more sheets of float glass separated by a spacer material and hermetically sealed together at the edge in order to create a thermal barrier using air or one or more gases but excluding any non-float glass components (other than the spacer and insulating materials) that may be mounted within the space between sheets of float glass (e.g., blinds, wrought iron cores, and camed patterned glass), as such non-float glass components are deemed outside the scope and not subject to duties; and (3) LED mirrors (i.e., float glass mirrors with one or more light-emitting diodes attached to or integrated with the mirror, as well as framed float glass mirrors with one or more light-emitting diodes attached to or integrated with the mirror or the mirror frame, but without other electronic functionality such as digital or video displays or audio circuitry).

Float glass products covered by the scope may meet one or more of the ASTM-C162, ASTM-C1036, ASTM-C1048, ASTM-C1172, ASTM-C1349, ASTM-C1376, ASTM-C1422/C1422M, ASTM-C1464, ASTM-C1503, ASTM-C1651, ASTM-E1300, and ASTM-E2190 specifications, definitions, and/or standards.

Float glass products may be further worked, including, but not limited to, operations such as: cutting; beveling; edging; notching; drilling; etching; bending; curving; chipping; embossing; engraving; surface grinding; or polishing; and sandblasting (i.e., using high velocity air to stream abrasive particles and thereby impart a frosted aesthetic to the glass surface). A float glass product which undergoes further work remains within the scope so long as the soda-lime-silica glass originally satisfied the requirements of ASTM-C1036 Type I and was first manufactured in a subject country, regardless of where it is further worked.

Excluded from the scope are: (1) wired glass (i.e., glass with a layer of wire mesh embedded within); (2) patterned flat glass (i.e., rolled glass with a pattern impressed on one or both sides) meeting the requirements of Type II under ASTM-C1036, including greenhouse glass and patterned solar glass (i.e., photovoltaic glass with a textured surface); (3) safety glazing materials for vehicles certified to American National Standards Institute (ANSI) Standard Z26.1; (4) vacuum insulating glass (VIG) units, which consist of two or more sheets of float glass separated by a spacer material, with at least one hermetically sealed compartment that uses a gas-free vacuum as a thermal barrier; (5) framed mirrors without any LEDs integrated with the mirror or the mirror frame; (6) unframed “over-the-door” mirrors that are ready for use as imported without undergoing after importation any processing, finishing, or fabrication; and (7) heat-strengthened washing machine lid glass with an actual surface area less than 6.0 square feet (0.56 square meters).

Also excluded from the scope of the investigation are: (1) soda-lime-silica glass containing less than 0.01 percent iron oxide by weight, annealed with a surface compression less than 3,500 pounds per square inch (PSI), having a transparent conductive oxide base coating (e.g., tin oxide), and with an actual thickness less than or equal to 4.0 mm (0.1575 inches) (i.e., “coated solar glass”); and (2) heat treated soda-lime-silica glass with a surface compression between 3,500 and 10,000 PSI, containing two or more drilled holes, and having an actual thickness less than 2.5 mm (0.0984 inches) (i.e., “clear back solar glass”). Solar glass products (also known as photovoltaic glass) are designed to facilitate the conversion of solar energy into electricity.

Also excluded are metal-camed glass products (i.e., panels of glass joined together with metal banding) where the constituent glass panels would otherwise be excluded by reason of their size (e.g., an actual surface area less than 0.37 square meters, or 4.0 square feet) and/or by reason of consisting of patterned flat glass (i.e., rolled glass with a pattern impressed on one or both sides) meeting the requirements of Type II under ASTM-C1036.

Also excluded from the scope of the investigation are any products already covered by the scope of any extant antidumping and/or countervailing duty orders, including Aluminum Extrusions from the People's Republic of China: Antidumping Duty Order, 76 FR 30650 (May 26, 2011), and Aluminum Extrusions from the People's Republic of China: Countervailing Duty Order, 76 FR 30653 (May 26, 2011).

The products subject to the investigation are currently classifiable under subheadings 7005.10.8000, 7005.21.1010, 7005.21.1030, 7005.21.2000, 7005.29.1810, 7005.29.1850, 7005.29.2500, 7007.29.0000, 7008.00.0000, 7009.91.5010, 7009.91.5095, and 7009.92.5010 of the Harmonized Tariff Schedule of the United States (HTSUS). Products subject to the investigation may also enter under HTSUS subheadings 7006.00.4010, 7006.00.4050, and 7007.19.0000. Although the HTSUS subheadings are provided for convenience and customs purposes, the written description of the scope of the investigation is dispositive.

Appendix II

List of Topics Discussed in the Preliminary Decision Memorandum

I. Summary

II. Background

III. Period of Investigation

IV. Discussion of the Methodology

V. Adjustment Under Section 777(A)(f) of the Act

VI. Adjustment to Cash Deposit Rates for Export Subsidies

VII. Recommendation

[FR Doc. 2025-13206 Filed 7-14-25; 8:45 am]

BILLING CODE 3510-DS-P